DEPARTMENT OF ENERGY

Federal Energy Regulatory Commission

[Docket Nos. EL12-44-000; QF87-483-004]

AES Hawaii, Inc.; Notice of Petition for Temporary Waiver

Take notice that on March 5, 2012, pursuant to section 292.205(c) of the Federal Energy Regulatory Commission's (Commission) Rules of Practice and Procedure, 18 CFR 292.205(c), AES Hawaii, Inc. (AES Hawaii) filed a Request for Temporary Waiver, for calendar year 2011, of the five percent operating standard set forth in 18 CFR 292-205(a)(1) of the Commission's Regulations for the topping-cycle cogeneration facility located on the island of Oauh, Hawaii. AES Hawaii makes such a request because of a forced boiler outage in the fourth quarter of 2011.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on March 26, 2012.

Dated: March 7, 2012.
Kimberly D. Bose,
Secretary.

[FR Doc. 2012-6110 Filed 3-13-12; 8:45 am]

BILLING CODE 6717-01-P